DEPARTMENT OF HEALTH AND HUMAN SERVICES

Centers for Disease Control and Prevention

[30Day-24-24AA]

Agency Forms Undergoing Paperwork Reduction Act Review

In accordance with the Paperwork Reduction Act of 1995, the Centers for Disease Control and Prevention (CDC) has submitted the information collection request titled “Rape Prevention and Education (RPE) Program” to the Office of Management and Budget (OMB) for review and approval. CDC previously published a “Proposed Data Collection Submitted for Public Comment and Recommendations” notice on October 16, 2023 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Rape prevention and education (RPE) program—New—National Center for Injury Prevention and Control (NCIPC), Centers for Disease Control and Prevention (CDC).

Background and Brief Description

Sexual violence (SV) is a major public health problem, one in three women and one in four men experienced sexual violence involving physical contact during their lifetimes. Nearly one in five women and one in 38 men have experienced completed or attempted rape. Sexual violence starts early: one in three female and one in four male rape victims experienced it for the first time between 11-17 years old. The Rape Prevention and Education Program (RPE) provides funding to health departments and sexual violence coalitions in all 50 states, the District of Columbia (DC), and U.S. territories as well as up to 10 tribal coalitions. CDC will collect data from RPE Program recipients to assess how recipients are improving prevention infrastructure, implementing, and evaluating prevention strategies to expand efforts to prevent sexual assault, and using data to inform prevention action.

Recipients will have an opportunity to: (1) continue to build program and partner capacity to facilitate and monitor the implementation of SV prevention programs, practices, and policies; (2) continue to support state and territorial health departments' implementation of community-and societal-level programs, practices, and policies to prevent SV; (3) continue to support the implementation of data-driven, comprehensive, evidence-based SV primary prevention strategies, and approaches focused mainly on health equity; and (4) continuously conduct data to action activities to inform changes or adaptations to existing SV strategies or on selected and implemented additional strategies.

RPE Program recipients or designated delegates will submit data annually into an online data system. Recipients will monitor and report progress on their goals, objectives, and activities, as well as relevant information on the implementation of their prevention strategies, outcomes, evaluation, and state action plan. Information will be collected via online web-based survey software. Descriptive analyses (e.g., frequencies and crosstabs) will be performed on numeric or categorical data, and content analyses (e.g., categorization) on open-ended or text data.

Information to be collected will provide crucial data for program performance monitoring and provide CDC with the capacity to respond in a timely manner to requests for information about the program from the Department of Health and Human Services (HHS), the White House, Congress, and other sources. Information to be collected will also strengthen CDC's ability to monitor awardee progress, provide data-driven technical assistance, and disseminate the most current surveillance data on unintentional and intentional injuries.

The total annual burden requested by CDC is estimated to be 1,408 hours. There are no costs to respondents other than their time to participate.

Estimated Annualized Burden Hours
Type of respondents | Form name | Number of respondents | Number of responses per respondent | Average burden per response (in hours)
RPE-funded Health Departments (State, DC, and Territories), Sexual Assault Coalitions, Tribal Coalitions and their Designated Delegates | Annual Performance Report Program Director Survey Lead Evaluator Survey | 128 128 128 | 1 1 1 | 10 30/60 30/60

Jeffrey M. Zirger,
Lead, Information Collection Review Office, Office of Public Health Ethics and Regulations, Office of Science, Centers for Disease Control and Prevention.

[FR Doc. 2024-05775 Filed 3-18-24; 8:45 am]

BILLING CODE 4163-18-P